DEPARTMENT OF HOUSING AND URBAN DEVELOPMENT

[Docket No. FR-7052-N-06; OMB Control No. 2506-0165]

60-Day Notice of Proposed Information Collection: Disaster Recovery Grant Reporting System

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: January 23, 2023.

ADDRESSES: Interested persons are invited to submit comments regarding this proposal. Comments should refer to the proposal by name and/or OMB Control Number and should be sent to: Anna Guido, Management Analyst, REE, Department of Housing and Urban Development, 451 7th Street SW, Room 4176, Washington, DC 20410-5000; telephone 202-402-5535 (this is not a toll-free number) or email at Anna.P.Guido@HUD.Gov for a copy of the proposed forms or other available information. HUD welcomes and is prepared to receive calls from individuals who are deaf or hard of hearing, as well as individuals with speech and communication disabilities. To learn more about how to make an accessible telephone call, please visit https://www.fcc.gov/consumers/guides/telecommunications-relay-service-trs.

FOR FURTHER INFORMATION CONTACT: Tennille Smith Parker, Director, Disaster Recovery and Special Issues Division, Office of Block Grant Assistance, Department of Housing and Urban Development, 451 7th Street SW, Washington, DC 20410; email Tennille Smith Parker at Tennille.Parker@HUD.gov or telephone 202-708-3587. This is not a toll-free number. HUD welcomes and is prepared to receive calls from individuals who are deaf or hard of hearing, as well as individuals with speech and communication disabilities. To learn more about how to make an accessible telephone call, please visit https://www.fcc.gov/consumers/guides/telecommunications-relay-service-trs. Copies of available documents submitted to OMB may be obtained from Ms. Guido.

SUPPLEMENTARY INFORMATION: This notice informs the public that HUD is seeking approval from OMB for the information collection described in Section A.

A. Overview of Information Collection

Title of Information Collection: Disaster Recovery Grant Reporting System (DRGR).

OMB Approval Number: 2506-0165.

Type of Request: Revision.

Form Number: SF-424 Application for Federal Assistance.

Description of the need for the information and proposed use:

The Disaster Recovery Grant Reporting (DRGR) System is a grants management system used by the Office of Community Planning and Development to monitor special appropriation grants under the Community Development Block Grant program. This collection pertains to Community Development Block Grant Disaster Recovery (CDBG-DR), Community Development Block Grant Mitigation (CDBG-MIT), Community Development Block Grant National Disaster Resilience Competition (CDBG-NDR), Neighborhood Stabilization Program (NSP), Rural Capacity Building (RCB), Section 4, and Recovery Housing Program (RHP) grant funds.

The CDBG program is authorized under Title I of the Housing and Community Development Act of 1974, as amended. Following major disasters, Congress appropriates supplemental CDBG funds for disaster recovery. According to Section 104(e)(1) of the Housing and Community Development Act of 1974, HUD is responsible for reviewing grantees' compliance with applicable requirements and their continuing capacity to carry out their programs. Grant funds are made available to states and units of general local government, Indian tribes, and insular areas, unless provided otherwise by supplemental appropriations statute, based on their unmet disaster recovery needs.

The Neighborhood Stabilization Program (NSP) was established for the purpose of stabilizing communities that have suffered from foreclosures and property abandonment. Authorized under Section 1497 of the Wall Street Reform and Consumer Protection Act of 2010 (Pub. L. 111-203, approved July 21, 2010) (“NSP3”), NSP3 Technical Assistance (TA) provides $20 million to organizations that are experienced and successful in providing program, technical, planning, financial, and organizational capacity building assistance, or consulting in such areas as community development, affordable housing, organizational management, financing and underwriting, construction and rehabilitation management, land banking, project management and strategic planning.

Through the funding of national organizations with expertise in rural housing and community development, the Rural Capacity Building (RCB) and Section 4 programs enhance the capacity and ability of local governments, Indian tribes, housing development organizations, rural Community Development Corporations (CDCs), and rural Community Housing Development Organizations (CHDOs), to carry out community development and affordable housing activities that benefit low-and moderate-income families and persons in rural areas.

The Recovery Housing Program (RHP) was authorized under section 8071 of the Support for Patients and Communities (SUPPORT) Act. HUD published its formula in the Federal Register on April 17, 2019 (84 FR 16027), identifying the 35 eligible grantees and allocation percentages. Section 8071 of the SUPPORT Act (Section 8071) required funds appropriated or made available for the RHP be treated as CDBG funds under title I of the Housing and Community Act of 1974, unless otherwise provided in Section 8071 or modified by waivers and alternative requirements.

Estimated Number of Respondents: 2,378.

Estimated Number of Responses: 46,150.

Frequency of Response: Varies.

Average Hours per Response: Varies.

Total Estimated Burdens: 59,890.50 hours and cost of $1,861,995.10.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Principal Deputy Assistant Secretary for Community Planning and Development, Marion McFadden, having reviewed and approved this document, is delegating the authority to electronically sign this document to submitter, Aaron Santa Anna, who is the Federal Register Liaison for HUD, for purposes of publication in the Federal Register.

Aaron Santa Anna,
Federal Liaison for the Department of Housing and Urban Development.

[FR Doc. 2022-25365 Filed 11-21-22; 8:45 am]

BILLING CODE 4210-67-P